FEDERAL COMMUNICATIONS COMMISSION

47 CFR Part 73

[MB Docket No. 22-150; RM-11926; DA 22-900; FR ID 102895]

Television Broadcasting Services Augusta, Maine

AGENCY: Federal Communications Commission.

ACTION: Final rule.

SUMMARY: On April 13, 2022, the Media Bureau, Video Division (Bureau) issued a Notice of Proposed Rulemaking in response to a petition for rulemaking filed by Maine Public Broadcasting Corporation (Petitioner), the licensee of WCBB, channel *10, Augusta, Maine, requesting the substitution of channel *20 for channel *10 at Augusta in the Table of Allotments. For the reasons set forth in the Report and Order referenced below, the Bureau amends Federal Communications Commission (FCC or Commission) regulations to substitute channel *20 for channel *10 at Augusta.

DATES: Effective September 6, 2022.

FOR FURTHER INFORMATION CONTACT: Joyce Bernstein, Media Bureau, at (202) 418-1647 or Joyce.Bernstein@fcc.gov.

SUPPLEMENTARY INFORMATION: The proposed rule was published at 87 FR 25196 on April 28, 2022. The Petitioner filed comments in support of the petition reaffirming its commitment to apply for channel *20. No other comments were filed.

We find that the public interest would be served by substituting channel *20 for channel *10 at Augusta, Maine since it would improve access to WCBB's PBS and other public television programming by improving indoor reception. Although the proposed channel *20 facilities will result in a predicted loss of service to 3,785 persons, much of the predicted loss area is located outside the state of Maine and the “vast majority” is served by Petitioner's owned and operated stations WMEB-TV, Orono, Maine (WMEB-TV), and WMEA-TV, Biddeford, Maine, or by other PBS member stations WENH-TV, Durham, New Hampshire, WLED-TV, Littleton, New Hampshire, and WVTB, St. Johnsbury, Vermont. Once these other sources of PBS programing and terrain-limitations are factored into the loss analysis, the new loss area that would be created by the proposed channel substitution would contain 155 persons, which is within the level the Commission considers de minimis in the context of considering impermissible loss of service. Since the proposed facility is located within the Canadian coordination zone, concurrence from the Canadian government was required and has subsequently been obtained.

This is a synopsis of the Commission's Report and Order, MB Docket No. 22-150; RM-11926; DA 22-900, adopted August 29, 2022, and released August 29, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of Allotments, under Maine, by revising the entry for “Augusta” to read as follows:

§ 73.622 Digital television table of allotments.

* * * * *

(j) * * *

Community | Channel No.
* * * * *
MAINE
Augusta | *20
* * * * *

[FR Doc. 2022-19174 Filed 9-2-22; 8:45 am]

BILLING CODE 6712-01-P